ENVIRONMENTAL PROTECTION AGENCY

[EPA-HQ-ORD-2010-0674; FRL-9807-7]

Request for Information To Inform Hydraulic Fracturing Research Related to Drinking Water Resources

AGENCY: Environmental Protection Agency (EPA).

ACTION: Request for information.

SUMMARY: The EPA is extending its deadline for the public to submit data and scientific literature to inform EPA's research on the potential impacts of hydraulic fracturing on drinking water resources from April 30, 2013 until November 15, 2013. EPA is extending the deadline in order to provide the public with more of an opportunity to provide feedback to the Agency.

DATES: The EPA will accept data and literature in response to this request until November 15, 2013.

ADDRESSES: Using the online method is preferred for submitting information. Follow the online instructions at http://www.regulations.gov, and identify your submission with Docket ID No. EPA-HQ-ORD-2010-0674.

Additional methods for submission are:

• Email: Send information by electronic mail (email) to: ord.docket@epa.gov, Attention Docket ID No. EPA-HQ-ORD-2010-0674.

• Fax: Fax information to: (202) 566-9744, Attention Docket ID No. EPA-HQ-ORD-2010-0674.

• Mail: Send information by mail to: U.S. Environmental Protection Agency, EPA Docket Center, Mail code: 28221T, 1200 Constitution Avenue NW., Washington, DC, 20460, Attention Docket ID No. EPA-HQ-ORD-2010-0674.

• Hand Delivery or Courier: Deliver information to: EPA Docket Center, EPA West Building, Room 3334, 1301 Constitution Avenue NW., Washington, DC, Attention Docket ID No. EPA-HQ-ORD-2010-0674. Deliveries are only accepted during the docket's normal hours of operation, between the 8:30 a.m. and 4:30 p.m. Monday through Friday, excluding legal holidays. Special arrangements should be made for deliveries of boxed information.

Instructions: Direct your information to Docket ID No. EPA-HQ-ORD-2010-0674. The EPA's policy is that all information received will be included in the public docket without change and may be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means the EPA will not know your identity or contact information unless you provide it in the body of your comment. If you send an email comment directly to the EPA without going through www.regulations.gov, your email address will be automatically captured and included as part of the comment that is placed in the public docket and made available on the Internet. If you submit information electronically, the EPA recommends that you include your name and other contact information in the body of your comment and with any disk or CD-ROM you submit. If the EPA cannot read your comment due to technical difficulties and cannot contact you for clarification, the EPA may not be able to consider your comment. Electronic files should avoid the use of special characters, any form of encryption, and be free of any defects or viruses. Information on a CD ROM should be formatted as a MS Word, Rich Text, or Adobe Acrobat PDF file. For additional information about the EPA's public docket visit the EPA Docket Center homepage at http://www.epa.gov/dockets.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the EPA Docket Center, EPA West Building, Room 3334, 1301 Constitution Ave. NW., Washington, DC. The Public Reading Room is open from 8:30 a.m. to 4:30 p.m., Monday through Friday, excluding legal holidays. The telephone number for the Public Reading Room is (202) 566-1744, and the telephone number for the ORD Docket is (202) 566-1752.

FOR FURTHER INFORMATION CONTACT: For further information contact Lisa Matthews, Mail Code 8101R, Office of Research and Development, Environmental Protection Agency, 1200 Pennsylvania Avenue NW., Washington, DC 20460; via phone/voice mail at: (202) 564-6669; via fax at: (202) 565-2430; or via email at: matthews.lisa@epa.gov.

SUPPLEMENTARY INFORMATION:

Background

In response to public concern, the U.S. Congress urged the EPA to conduct scientific research to examine the relationship between hydraulic fracturing and drinking water resources. The EPA currently has underway a study to understand the potential impacts, if any, of hydraulic fracturing on drinking water resources and to identify the driving factors that may affect the severity and frequency of any such impacts.

The scope of the study includes the full hydraulic fracturing water lifecycle—from water acquisition, through the mixing of chemicals and injection of fracturing fluids, to the post fracturing stage, including the management of flowback and produced water and its ultimate treatment and disposal. The study includes a review of the published literature, analysis of existing data, scenario evaluation and modeling, laboratory studies and case studies. A copy of the EPA document entitled, Study of the Potential Impacts of Hydraulic Fracturing on Drinking Water Resources: PROGRESS REPORT can be found on the Internet at: http://epa.gov/hfstudy/pdfs/hf-report20121214.pdf.

To ensure that the EPA is up-to-date on evolving hydraulic fracturing practices and technologies, the EPA is soliciting relevant data and scientific literature specific to potential impacts of hydraulic fracturing on drinking water resources. While the EPA conducts a thorough literature search, there may be studies or other primary technical sources that are not available through the open literature. The EPA would appreciate receiving information from the public to help inform current and future research. Consistent with our commitment to using the highest quality information, The EPA prefers information which has been peer reviewed. Interested persons may provide scientific analyses, studies, and other pertinent scientific information, preferably information which has undergone scientific peer review. The EPA will consider all submissions but will give preference to all peer reviewed data and literature sources.

Dated: April 22, 2013.
Mary Ellen Radzikowski,
Acting Associate Assistant Administrator, Office of Research and Development.

[FR Doc. 2013-10154 Filed 4-29-13; 8:45 am]

BILLING CODE 6560-50-P